INTERNATIONAL TRADE COMMISSION

[Investigation Nos. 701-TA-513 and 731-TA-1249 (Second Review)]

Sugar From Mexico; Determinations

On the basis of the record ¹ developed in the subject five-year reviews, the United States International Trade Commission (“Commission”) determines, pursuant to the Tariff Act of 1930 (“the Act”), that termination of the suspended investigations on sugar from Mexico would be likely to lead to continuation or recurrence of material injury to an industry in the United States within a reasonably foreseeable time.

¹ The record is defined in § 207.2(f) of the Commission's Rules of Practice and Procedure (19 CFR 207.2(f)).

Background

The Commission instituted these reviews on March 3, 2025 (90 FR 11062, March 3, 2025) and determined on June 6, 2025, that it would conduct expedited reviews (90 FR 36070, July 31, 2025).

The Commission made these determinations pursuant to section 751(c) of the Act (19 U.S.C. 1675(c)). It completed and filed its determinations in these reviews on September 5, 2025. The views of the Commission are contained in USITC Publication 5664 (September 2025), entitled Sugar from Mexico: Investigation Nos. 701-TA-513 and 731-TA-1249 (Second Review).

By order of the Commission.
Issued: September 5, 2025.
Susan Orndoff,
Supervisory Attorney.

[FR Doc. 2025-17291 Filed 9-8-25; 8:45 am]

BILLING CODE 7020-02-P